FEDERAL RESERVE SYSTEM

Consumer Advisory Council; Notice of Meeting of the Consumer Advisory Council

The Consumer Advisory Council will meet on Thursday, June 17, 2010. The meeting, which will be open to public observation, will take place at the Federal Reserve Board's offices in Washington, DC, in Dining Room E on the Terrace Level of the Martin Building. For security purposes, anyone planning to attend the meeting should register no later than Tuesday, June 15, by completing the form found online at: https://www.federalreserve.gov/secure/forms/cacregistration.cfm.

Attendees must present photo identification to enter the building and should allow sufficient time for security processing.

The meeting will begin at 9 a.m. and is expected to conclude at 12:30 p.m. The Martin Building is located on C Street, NW., between 20th and 21st Streets.

The Council's function is to advise the Board on the exercise of the Board's responsibilities under various consumer financial services laws and on other matters on which the Board seeks its advice. Time permitting, the Council will discuss the following topics:

• Home Mortgage Disclosure Act (HMDA)

In the context of the Board's review of Regulation C, which implements HMDA, members will discuss whether the 2002 revisions to Regulation C, which required lenders to report mortgage pricing data, helped provide useful and accurate information about the mortgage market; the need for additional data and other improvements; and what emerging issues in the mortgage market may warrant additional research.

• Community Reinvestment Act (CRA)

Members will discuss the future of the Community Reinvestment Act, including possible changes in light of developments in the financial services industry and issues associated with the foreclosure crisis.

• Foreclosure issues

Members will discuss loss-mitigation efforts, including the Administration's Making Home Affordable program, neighborhood stabilization initiatives and challenges, and other issues related to foreclosures.

Reports by committees and other matters initiated by Council members also may be discussed.

Persons wishing to submit views to the Council on any of the above topics may do so by sending written statements to Jennifer Kerslake, Secretary of the Consumer Advisory Council, Division of Consumer and Community Affairs, Board of Governors of the Federal Reserve System, Washington, DC 20551. Information about this meeting may be obtained from Ms. Kerslake at 202-452-6470.

Board of Governors of the Federal Reserve System, June 3, 2010.
Jennifer J. Johnson,
Secretary of the Board.

[FR Doc. 2010-13670 Filed 6-7-10; 8:45 am]

BILLING CODE 6210-01-P